DEPARTMENT OF TRANSPORTATION

Research and Special Programs Administration Office of Hazardous Materials Safety

Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation; and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before August 8, 2001.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on July 19, 2001.
J. Suzanne Hedgepeth,
Director, Office of Hazardous Materials Exemptions and Approvals.

Application No. | Docket No. | Applicant | Modification of exemption
5022-M |  | Thiokol Propulsion Corp., Brigham City, UT (See Footnote ¹) | 5022
7954-M |  | Voltaix, Inc., North Branch, NJ (See Footnote ²) | 7954
8971-M |  | Baker Atlas, Houston, TX (See Footnote ³) | 8971
9401-M |  | Societe Nationale de Wagon-Reservoirs, 79009 Paris, FR (See Footnote ⁴) | 9401
10842-M |  | Autoliv ASP, Inc., Ogden, UT (See Footnote ⁵) | 10832
10945-M |  | Structural Composites Industries, Pomona, CA (See Footnote ⁶) | 10945
11434-M |  | Fisher Scientific Chemical Division, Fair Lawn, NJ (See Footnote ⁷) | 11434
11761-M |  | Hawkins, Inc., Minneapolis, MN (See Footnote ⁸) | 11761
12284-M | RSPA-99-5935 | American Traffic Safety Services Assn. (ATSSA), Fredericksburg, VA (See Footnote ⁹) | 12284
12449-M | RSPA-00-7213 | Chlorine Service Company, Inc., Kingwood, TX (See Footnote ¹⁰) | 12449
12595-M | RSPA-01-8643 | Marsulex, Inc., Toledo, OH (See Footnote ¹¹) | 12595
12643-M | RSPA-01-9066 | TRW Space and Electronics Groups, Redondo Beach, CA (See Footnote ¹²) | 12643
12676-M | RSPA-01-9376 | Environmental Management, Inc., Guthrie, OK (See Footnote ¹³) | 12676
12688-M | RSPA-01-9530 | Brenntag West, Inc., Santa Fe Springs, CA (See Footnote ¹⁴) | 12688
¹ To modify the exemption to authorize the transportation of an additional Division 1.3C material in temperature controlled equipment.
² To modify the exemption to provide for germanine mixtures, Division 2.3, to be transported in DOT-Specification 3A2400, 3AA2400 or 3AAX2400 cylinders.
³ To modify the exemption to authorize the use of additional design assemblies of the non-refillable, non-DOT specification steel cylinders for the transportation of certain Division 5.1 materials.
⁴ To modify the exemption to authorize the transportation of an additional Division 2.2 materials in non-DOT specification IMO Type 5 portable tanks.
⁵ To modify the exemption to authorize the transportation for disposal of unapproved waste explosive materials used in passive restraint systems by common carrier and relief from the outer packaging requirements.
⁶ To modify the exemption to authorize the transportation of an additional Division 2.2 material in non-DOT specification fully wrapped carbon fiber reinforced aluminum lined cylinders.
⁷ To modify the exemption to authorize the transportation of additional Class 3 material in tank cars authorized to remain standing with unloading connections attached when no product is being transferred.
⁸ To modify the exemption to authorize the transportation of additional Class 8 materials in certain DOT Specification and AAR Specification tank cars with a modified inspection procedure.
⁹ To modify the exemption to authorize an increase in the maximum capacity to 500 gallons of the non-DOT specification cargo tanks used for roadway striping.
¹⁰ To modify the exemption to authorize the use of a hydrostatic proof pressure test of the non-DOT specification pressure vessel for use in transporting Division 2.1 an 2.2 materials.
¹¹ To modify the exemption to authorize rerouting a Division 2.3 residue tank car for reloading at a different site while the car is in transit without change of placard and the addition of a Division 2.3 material.
¹² To reissue the exemption originally issued on an emergency basis for the transportation of a Division 2.2 material in a non-DOT specification refrigeration system described as a pulse tube cooler.
¹³ To reissue the exemption originally issued on an emergency basis for the use of a non-DOT specification full removable head steel salvage cylinder for overpacking and the transportation of damaged or leaking cylinders of pressurized and non-pressurized hazardous materials.
¹⁴ To modify the exemption originally issued on an emergency basis for the transportation in commerce of a Class 8 material in drums that do not meet the minimum thickness requirements.

[FR Doc. 01-18403 Filed 7-23-01; 8:45 am]

BILLING CODE 4910-60-M